DEPARTMENT OF VETERANS AFFAIRS

[OMB Control No. 2900-0209]

Agency Information Collection (Application for Work-Study Allowance): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 16, 2012.

ADDRESSES: Submit written comments on the collection of information through www.Regulations.gov or to VA's OMB Desk Officer, OMB Human Resources and Housing Branch, New Executive Office Building, Room 10235, Washington, DC 20503 (202) 395-7316. Please refer to “OMB Control No. 2900-0209” in any correspondence.

FOR FURTHER INFORMATION CONTACT: Denise McLamb, Enterprise Records Service (005R1B), Department of Veterans Affairs, 810 Vermont Avenue NW., Washington, DC 20420, (202) 632-7479, FAX (202) 273-0487 or email denise.mclamb@va.gov. Please refer to “OMB Control No. 2900-0209.”

SUPPLEMENTARY INFORMATION:

Titles

a. Application for Work-Study Allowance, VA Form 22-8691.

b. Student Work-Study Agreement (Advance Payment), VA Form 22-8692.

c. Extended Student Work-Study Agreement, VA Form 22-8692a.

d. Work-Study Agreement, VA Form 22-8692b.

OMB Control Number: 2900-0209.

Type of Review: Extension of a currently approved collection.

Abstracts

a. VA Form 22-8691 is used by claimants to apply for work-study benefits.

b. VA Form 22-8692 is used to request an advance payment of work-study allowance.

c. VA Form 22-8692a is used by a claimant to extend his or her work-study contract.

d. VA Form 22-8692b is used by claimants who do not want a work-study advanced allowance payment.

The data collected is used to determine an applicant's eligibility for work-study allowance and the amount payable.

An agency may not conduct or sponsor, and a person is not required to respond to a collection of information unless it displays a currently valid OMB control number. The Federal Register Notice with a 60-day comment period soliciting comments on this collection of information was published on November 1, 2011, at page 67558.

Affected Public: Individuals or households.

Estimated Annual Burden

a. VA Form 22-8691—4,350 hours.

b. VA Form 22-8692—608 hours.

c. VA Form 22-8692a—25 hours.

d. VA Form 22-8692b—608 hours.

Estimated Average Burden per Respondent

a. VA Form 22-8691—15 minutes.

b. VA Form 22-8692—5 minutes.

c. VA Form 22-8692a—3 minutes.

d. VA Form 22-8692b—5 minutes.

Frequency of Response: Annually.

Estimated Number of Respondents

a. VA Form 22-8691—17,400.

b. VA Form 22-8692—7,300.

c. VA Form 22-8692a—500.

d. VA Form 22-8692b—7,300.

Dated: January 11, 2012.
By direction of the Secretary.
Denise McLamb,
Program Analyst, Enterprise Records Service.

[FR Doc. 2012-669 Filed 1-13-12; 8:45 am]

BILLING CODE 8320-01-P